DEPARTMENT OF HEALTH AND HUMAN SERVICES

National Institutes of Health

Request for Information (RFI): Inviting Input Regarding NIDCD's Research Directions in Global Health

AGENCY: National Institutes of Health, HHS.

ACTION: Request for Information.

SUMMARY: The National Institute on Deafness and Other Communication Disorders (NIDCD), National Institutes of Health (NIH) invites input from all interested parties (individuals or groups) on NIDCD's future research directions in Global Health defined for this RFI as international collaboration among researchers in all countries to improve health. NIDCD requests input specifically focused on the NIDCD mission of advancing the science of communication to improve lives.

DATES: Comments will be accepted through July 2, 2024.

ADDRESSES: All responses to this RFI must be submitted electronically via the web-based form at: https://www.nidcd.nih.gov/nidcd-global-health-rfi-form. Please include the Notice number in the subject line of your response. Responses to this RFI are voluntary and may be submitted anonymously. You may voluntarily include your name and contact information with your response. If you choose to provide NIH with this information, NIH will not share your name and contact information outside NIH unless required by law.

Other than your name and contact information, please do not include any personally identifiable information or any information that you do not wish to make public. Proprietary, classified, confidential, or sensitive information should not be included in your response. The US Government will use the information submitted in response to this RFI at its discretion. Other than your name and contact information, the Government reserves the right to use any submitted information on public websites, in reports, in summaries of the state of the science, in any possible resultant solicitation(s), grant(s), or cooperative agreement(s), or in the development of future funding opportunities. This RFI is for informational and planning purposes only and is not a solicitation for applications or an obligation on the part of the Government to provide support for any ideas identified in response to it. Please note that the Government will not pay for the preparation of any information submitted or for use of that information.

FOR FURTHER INFORMATION CONTACT: Specific questions regarding the NIDCD RFI should be directed to: Lana Shekim, Ph.D., Global Health Coordinator National Institute on Deafness and Other Communication Disorders (NIDCD), Phone: 240-723-0306, NIDCDGlobalHealthRFI@nidcd.nih.gov.

SUPPLEMENTARY INFORMATION: This notice is in accordance with 42 U.S.C. 285m, of the Public Health Service Act, as amended. The NIDCD's mission is to support research and training on the normal and disordered processes of hearing, balance, taste, smell, voice, speech, and language. Our vision is to advance the science of communication to improve lives. In pursuit of its mission and as outlined in the 2023-2027 Strategic Plan https://www.nidcd.nih.gov/about/strategic-plans, NIDCD supports basic, translational, and clinical research on hearing, balance, taste, smell, voice, speech and language. One of the cross-cutting priorities listed in the strategic plan is to participate in international research to improve global health through reducing the burden of hearing loss and communication disorders in the US and around the globe. For more information about current international initiatives related to the NIDCD mission visit https://www.nidcd.nih.gov/research/global-health.

International collaboration has a long history at NIDCD in both its intramural laboratories and its support of extramural research, with such research leading to discoveries and advances in knowledge, for example the identification of deafness and stuttering gene variations, and improvements in Brain-Computer Interfaces (BCI) for Communication. A notable example of successful translational research from the hearing program is the development of cochlear implant which resulted from collaboration among multiple scientific disciplines working in the US and collaborating across borders.

NIDCD, like other NIH Institutes, funds highly meritorious research throughout the world, both through direct awards to non-U.S. institutions and indirectly through awards to U.S. institutions. NIDCD is interested in advancing knowledge by strengthening our engagement across the globe in all settings, whether highly resourced or under resourced. By resources, we do not mean just financial resources and include availability of human capital and infrastructure. Reducing the burden of deafness and communication disorders requires a diverse work force that includes physicians, namely otolaryngologists, audiologists, speech-language pathologists, nurses, neuroscientists, psychologists, epidemiologists and many other health and educational professionals. Clinical care may be medical, surgical, pharmacologic or behavioral. Availability of professionals and especially research scientists is uneven within countries and across regions of the world. In the case of communication disorders, knowledge of the language in the area and the culture are essential for effective evaluation and treatment, especially for speech, language and hearing assessment and behavioral intervention.

Recognizing that health is a fundamental human right, so is the right to communicate. NIDCD seeks mutuality of purpose in establishing partnerships across the world to re-imagine a more equitable world.

Information Requested

NIDCD seeks input from a broad array of interested parties, including (but not limited to) people with lived experience or family members, research organizations, academic institutions, multilateral organizations, community organizations, professional societies, businesses, health services organizations, other government agencies and those receiving funding or employed by NIH. NIDCD welcomes thoughts about the appropriateness of the topics below, potential benefits or challenges, suggestions and examples of existing or potential partnerships and any other topic respondents believe is relevant for NIDCD to consider.

Capacity Building: Develop, maintain and renew scientific research capacity of individuals to build future leaders of research in under-resourced and underserved areas in the US and abroad. Addressing current challenges requires a critical mass of capable clinician-scientists and basic scientists that know the language in any given country and understand the cultural and social context.

Strategic partnerships: Build and strengthen strategic partnerships with other NIH Institutes and Centers, other US Government agencies, research funding agencies of other countries, foundations and industry. Doing so would increase strength and sustainability and create synergy for greater public good.

Dissemination and Implementation Research (DIR): Support research and research training in dissemination and implementation research and improve its impact on the health and health care of populations, by fostering rapid integration of research, practice and policy.

WHO Rehabilitation 2030: Advance research on rehabilitation of disorders of voice, speech, language, hearing, balance, taste and smell by promoting transdisciplinary collaboration among researchers funded by NIH Institutes and other US federal agencies working to promote the World Health Organization (WHO) initiative “Rehabilitation 2030” https://www.who.int/initiatives/rehabilitation-2030.

World Regions: Select regions in the world, continents, or countries, based on opportunities they provide for largest impact, i.e., shared regional language, population size, unique health system, social practice that influences genetic X environmental interaction, availability of research infrastructure or existing partnerships to build on or link to others.

Solutions to Global Workforce Challenges: Work to reduce the brain drain of researchers and health professionals from under resourced areas to highly resourced areas by creating innovative programs that harness the experience and skills of research clinicians across diasporas and engage them in their regions of origin.

We look forward to your input and hope that you will share this RFI opportunity with your colleagues.

Dated: May 3, 2024.
Lisa J. Portnoy,
Acting Executive Officer, National Institute on Deafness and Other Communication Disorders, National Institutes of Health.

[FR Doc. 2024-10096 Filed 5-8-24; 8:45 am]

BILLING CODE 4140-01-P